THE NATIONAL FOUNDATION ON THE ARTS AND HUMANITIES

Proposed Collection, Comment Request, User Study

AGENCY: Institute of Museum and Library Services, NFAH.

ACTION: Notice.

SUMMARY: The Institute of Museum and Library Services as part of its continuing effort to reduce paperwork and respondent burden, conducts a pre-clearance consultation program to provide the general public and federal agencies with an opportunity to comment on proposed and/or continuing collections of information in accordance with the Paperwork Reduction Act of 1995 (PRA95) (44 U.S.C. 3508(2)(A)). This program helps to ensure that requested data can be provided in the desired format, reporting burden (time and financial resources) is minimized, collection instruments are clearly understood, and the impact of collection requirements on respondents can by properly assessed. Currently the Institute of Museum and Library Services is soliciting comments concerning the proposed study of the status of use of technology and digitization activities in the nation's museums and libraries.

A copy of the proposed information collection request can be obtained by contacting the individual listed below in the addressee section of this notice.

DATES: Written comments must be submitted to the office listed in the addressee section below on or before February 7, 2005.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology e.g. permitting electronic submissions of responses.

ADDRESSES: Send comments to: Rebecca Danvers, Director of Research and Technology, Institute of Museum and Library Services, 1100 Pennsylvania Ave., NW., Room 223, Washington, DC 20506. Dr. Danvers can be reached on telephone: (202) 606-2478, fax: (202) 606-0395 or by e-mail at rdanvers@imls.gov.

SUPPLEMENTARY INFORMATION:

I. Background

The Institute of Museum and Library Service is an independent Federal grant-making agency authorized by the Museum and Library Services Act, 20 U.S.C. Section 9101, et seq. The IMLS provides a variety of grant programs to assist the nation's museums and libraries in improving their operations and enhancing their services to the public. Museums and libraries of all sizes and types may receive support from IMLS programs. The Museum and Library Services Act of 2003 includes a strong emphasis on supporting museum and library services through effective and efficient use of new technologies. This solicitation is to develop plans to collect information to assist IMLS understand the information needs and expectations of users and potential users of online information including, but not limited to information currently available online through libraries, museums and other cultural heritage institutions, and the Internet, and of the impacts of having such information.

II. Current Action

The core duties of the Institute of Museum and Library Services, as stated in its strategic plan, are to promote excellence in library services and to promote access to museum and library services for a diverse public. This goal will be accomplished in part by promoting access to online resources available through museums and libraries and to promote the development of online resources that have positive impact. IMLS is seeking assistance in developing specific plans to collect information from library users, museum users and Internet users to understand their information needs, their preference for various sources of information and factors affecting their choice, the usefulness and value of the information accessed, and to identify content that should be made available online along with mechanisms and resources needed to connect users to that content. These information collections will be developed based on the geographic location and demographic characteristics of the populations studied. Some information on online information access has been collected, most notably the Pew Internet and American Life project. The information IMLS collects should build on, but not duplicate, existing or ongoing collections.

Agency: Institute of Museum and Library Services.

Title: National Study of Users and Potential Users of Online Information.

OMB Number: n/a.

Agency Number: 3137.

Frequency: One time.

Affected Public: Users of libraries, museums and the Internet.

Number of Respondents: 5,000.

Estimated Time Per Respondent: 10-15 minutes.

Total Burden Hours: 1,042.

Total Annualized Capital/Startup Costs: 0.

Total Annual Costs: 0.

FOR FURTHER INFORMATION CONTACT: Rebecca Danvers, Director of the Office of Research and Technology, Institute of Museum and Library Services, 1100 Pennsylvania Avenue, NW., Washington, DC 20506, telephone (202) 606-2478.

Dated: December 3, 2004.
Rebecca Danvers,
Director, Office of Research and Technology.

[FR Doc. 04-26925 Filed 12-7-04; 8:45 am]

BILLING CODE 7036-01-M